DEPARTMENT OF HEALTH AND HUMAN SERVICES

Centers for Disease Control and Prevention

[30 Day-06-0440X]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Integrating HIV and Other Prevention Services into Reproductive Health and Other Community Settings—Program Evaluation—New—National Center for Chronic Disease Prevention and Health Promotion (NCCDPHP), Centers for Disease Control and Prevention (CDC).

Background and Brief Description

Integrating HIV and Other Prevention Services into Reproductive Health and Other Community Settings is a training project of the CDC, National Center for Chronic Disease Prevention and Health Promotion, and its grantees (ten family planning regional training centers). The project requires twice-yearly reports from its grantees, (each of whom corresponds to one of the ten federal public health regions) on their training-centered intervention activities.

The projects deliver training and technical assistance to health provider agencies to promote the program's objective of integrating prevention services into the existing range of services delivered by the project's health-provider agency partners. In addition, four projects are funded for adolescent reproductive health to deliver training and technical assistance to promote capacity building of communities in preventing teen pregnancy, sexually transmitted diseases, and promoting adolescent reproductive health. Promoting integrated prevention services and adolescent reproductive health are key strategies in containing the HIV epidemic in that the targeted provider agencies and the targeted communities serve at-risk populations not generally served by other health agencies where HIV prevention is a programmatic component.

Evaluation of this 5-year prevention integration program, which began September 30, 2004, will focus on process and outcome (or impact). Both process and outcome evaluation will provide data for validating program action or for redirecting program activities. On-going evaluation is a vital component for ensuring program success.

The evaluated findings from the data collection will enable the projects to be more efficient and effective in their operations and provide a direct means for submitting the twice-yearly progress reports, as mandated for all CDC cooperative agreements.

Grantees' semi-annual performance reports are due April 30 and October 30 during each year of the 5-year cooperative agreement. Using the on-line system, grantees enter data during each reporting period, and then generate a copy of their training report. Next, by the specified dates, grantees deliver this performance report and their non-structured narrative report, which explains additions, deletions, changes, and redirections of training objectives or activities, to CDC's Procurement and Grants Office.

The information obtained from the on-line performance reporting system will help the CDC meet its evaluation objectives. No proprietary items or sensitive information will be collected. There is no cost to respondents other than their time. The total estimated annualized burden hours are 26.

Estimate of Annualized Burden Table

Respondents | Number of respondents | Number of responses per respondent | Average burden per response (in hours)
Project Organizations | 10 | 2 | 77/60

Dated: February 2, 2006.
Betsey Dunaway,
Acting Reports Clearance Officer, Centers for Disease Control and Prevention.

[FR Doc. E6-1828 Filed 2-9-06; 8:45 am]

BILLING CODE 4163-18-P